DEPARTMENT OF HEALTH AND HUMAN SERVICES

Food and Drug Administration

21 CFR Part 886

[Docket No. FDA-2018-N-3066]

Medical Devices; Classification of Accessories Distinct From Other Devices; Finalized List of Accessories Suitable for Class I; Correction

AGENCY: Food and Drug Administration, HHS.

ACTION: Final classification action; correction.

SUMMARY: The Food and Drug Administration (FDA) is correcting a document that appeared in the Federal Register of April 12, 2019. That document was published with the instruction to add a section to the incorrect subpart. This correction is being made to improve the accuracy of the final classification action.

DATES: Effective May 20, 2019, and applicable May 13, 2019.

FOR FURTHER INFORMATION CONTACT: Lisa Granger, Office of Policy and Planning, Food and Drug Administration, 10903 New Hampshire Ave., Bldg. 32, Rm. 3330, Silver Spring, MD 20993, 301-796-9115.

SUPPLEMENTARY INFORMATION: In FR Doc. 2019-07290 appearing on page 14865 in the Federal Register of Friday, April 12, 2019, the following correction is made:

§ 886.4355 [Corrected]

1. On page 14870, in the second column, in part 886, amendatory instruction 11 is corrected to read as follows:

“11. “Add § 886.4355 to subpart E to read as follows:”

Dated: May 14, 2019.
Lowell J. Schiller,
Principal Associate Commissioner for Policy.

[FR Doc. 2019-10399 Filed 5-17-19; 8:45 am]

BILLING CODE 4164-01-P